DEPARTMENT OF ENERGY

Critical Material List; Addition of Metallurgical Coal Used for Steelmaking

AGENCY: Office of Fossil Energy and Carbon Management, Department of Energy.

ACTION: Notice.

SUMMARY: The U.S. Department of Energy (DOE) is issuing this notice to advise the public that DOE has added metallurgical coal used for steelmaking to the DOE Critical Material List. This notice also provides the link to the assessment that forms the justification for including metallurgical coal used in steelmaking on the Critical Material List. Meeting the policy goal of U.S. steel dominance will require dramatic increases in domestic metallurgical coal production and use and thereby supports the determination that metallurgical coal used for steelmaking is a DOE critical material.

FOR FURTHER INFORMATION CONTACT: Questions may be addressed to David Alleman or Burt Thomas, U.S. Department of Energy (FE-32), Office of Research and Development, Office of Resource Sustainability, Office of Fossil Energy and Carbon Management, Forrestal Building, Room 3E-042, 1000 Independence Avenue SW, Washington, DC 20585; (202) 586-0147 or (240) 243-3991; david.alleman@hq.doe.gov or burt.thomas@hq.doe.gov.

SUPPLEMENTARY INFORMATION: Section 7002(a)(2) of the Energy Act of 2020 defines “critical materials” to be: (A) any non-fuel mineral, element, substance, or material that the Secretary of Energy determines (i) has high risk for supply chain disruption; and (ii) serves an essential function in one or more energy technologies, including technologies that produce, transmit, store, and conserve energy [referred to here as a critical material for energy]; or (B) a critical mineral [as designated by the Secretary of the Interior].¹

¹ Section 7002(a)(2) of the Energy Act of 2020 is codified at 30 U.S.C. 1606(a)(2).

On August 4, 2023, DOE published its “Notice of Final Determination on 2023 DOE Critical Materials List” (hereinafter Critical Materials List).² The Critical Materials List includes the following:

² U.S. Dep't of Energy, Notice of Final Determination on 2023 DOE Critical Materials List, 88 FR 51792 (August 4, 2023), https://www.federalregister.gov/documents/2023/08/04/2023-16611/notice-of-final-determination-on-2023-doe-critical-materials-list.

• Critical materials for energy: aluminum, cobalt, copper*, dysprosium, electrical steel* (grain-oriented electrical steel, non-grain-oriented electrical steel, and amorphous steel), fluorine, gallium, iridium, lithium, magnesium, natural graphite, neodymium, nickel, platinum, praseodymium, terbium, silicon*, and silicon carbide*.

• Critical minerals: The Secretary of the Interior, acting through the Director of the U.S. Geological Survey (USGS), published a 2022 final list of critical minerals that includes the following 50 minerals: “Aluminum, antimony, arsenic, barite, beryllium, bismuth, cerium, cesium, chromium, cobalt, dysprosium, erbium, europium, fluorspar, gadolinium, gallium, germanium, graphite, hafnium, holmium, indium, iridium, lanthanum, lithium, lutetium, magnesium, manganese, neodymium, nickel, niobium, palladium, platinum, praseodymium, rhodium, rubidium, ruthenium, samarium, scandium, tantalum, tellurium, terbium, thulium, tin, titanium, tungsten, vanadium, ytterbium, yttrium, zinc, and zirconium.” ³

³ The asterisks (*) indicates materials not designated as critical minerals by the Secretary of Interior.

The critical materials for energy included on the Critical Material List are based on the criticality assessed in the short- and medium-term. A detailed description of DOE's methodology can be found in its Critical Minerals Assessment published on its website in July 2023.⁴

⁴ U.S. Dept't of Energy, Critical Materials Assessment (July 2023), https://www.energy.gov/sites/default/files/2023-07/doe-critical-material-assessment_07312023.pdf.

By this Notice, the Secretary of Energy advises the public of the addition of metallurgical coal to DOE's Critical Material List. The assessment ⁵ that forms the justification for including metallurgical coal used in the production of steel on the Critical Material List can be found on DOE's website: https://www.energy.gov/cmm/what-are-critical-materials-and-critical-minerals. The assessment concludes that the current U.S. steel market and its reliance on metallurgical coal puts the industry on track for significant import reliance. Meeting the policy goal of U.S. steel dominance will require dramatic increases in domestic metallurgical coal production and use, and thereby supports the determination that coal used for steelmaking is a DOE critical material. Furthermore, this action directly supports the President's policy goals of reinvigorating the U.S. coal industry and achieving American energy dominance as explained in Executive Order 14261, “Reinvigorating America's Beautiful Clean Coal Industry and Amending Executive Order 14241”.⁶

⁵ U.S. Dep't of Energy, The Intrinsic Role of Coal in Achieving Steel Dominance (May 2025), [https://www.energy.gov/cmm/what-are-critical-materials-and-critical-minerals].

⁶ E.O. 14261 of April 8, 2025, Reinvigorating America's Beautiful Clean Coal Industry and Amending Executive Order 14241, 90 FR 15517 (April 14, 2025), https://www.govinfo.gov/content/pkg/FR-2025-04-14/pdf/2025-06380.pdf.

Signing Authority

This document of the Department of Energy was signed on May 22, 2025, by Tala Goudarzi, Principal Deputy Assistant Secretary, Office of Fossil Energy and Carbon Management, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on May 22, 2025.
Treena V. Garrett,
Federal Register Liaison Officer, U.S. Department of Energy.

[FR Doc. 2025-09607 Filed 5-28-25; 8:45 am]

BILLING CODE 6450-01-P